DEPARTMENT OF THE INTERIOR

Fish and Wildlife Service

[FWS-R8-ES-2011-N178; 80221-1113-0000-C2]

Endangered and Threatened Wildlife and Plants; Draft Revised Recovery Plan, First Revision, for Lost River Sucker and Shortnose Sucker

AGENCY: Fish and Wildlife Service, Interior.

ACTION: Notice of document availability for review and public comment.

SUMMARY: We, the Fish and Wildlife Service, announce the availability of our draft revised recovery plan, first revision, for Lost River sucker and shortnose sucker under the Endangered Species Act of 1973, as amended (Act). These fish species are found in southern Oregon and northern California. We are revising this plan because a substantial amount of new information is available related to recovery of both species, making it appropriate to incorporate new information into the recovery program. We request review and comment from local, State, and Federal agencies and the public. We will also accept any new information on the species' status throughout their ranges.

DATES: We must receive written comments on or before December 19, 2011. However, we will accept information about any species at any time.

ADDRESSES: If you wish to review the draft recovery plan, you may obtain a copy from our Web site at http://www.fws.gov/endangered/species/recovery-plans.html. Alternatively, you may contact the Klamath Falls Fish and Wildlife Office, U.S. Fish and Wildlife Service, 1936 California Ave., Klamath Falls, OR 97601; (541-885-8481, phone). If you wish to comment on the plan, you may submit your comments in writing by any one of the following methods:

• U.S. mail: Field Supervisor, at the above address;

• Hand delivery: Klamath Falls Fish and Wildlife Office at the above address;

• Fax: (541) 885-7837; or

• E-mail: FW8KFFWOESComments@fws.gov.

For additional information about submitting comments, see “Request for Public Comments,” below.

FOR FURTHER INFORMATION CONTACT: Laurie Sada, Field Supervisor, at the above address, phone number, or e-mail.

SUPPLEMENTARY INFORMATION:

Background

Recovery of endangered or threatened animals and plants to the point where they are again secure, self-sustaining members of their ecosystems is a primary goal of our endangered species program under the Act (Act; 16 U.S.C. 1531 et seq.). Recovery means improvement of the status of listed species to the point at which listing is no longer appropriate under the criteria set out in section 4(a)(1) of the Act. The Act requires the development of recovery plans for listed species, unless such a plan would not promote the conservation of a particular species.

Species' History

The Lost River sucker (Deltistes luxatus) and shortnose sucker (Chasmistes brevirostris) are two species of fish that inhabit a limited number of lakes and reservoirs in the upper Klamath Basin, including the Lost River sub-basin, in southern Oregon and northern California. We listed these species as endangered throughout their entire range under the Act on July 18, 1988 (53 FR 27130). We originally completed and announced a recovery plan for the species on March 17, 1993 (USFWS 1993, pp. 1-108). However, a substantial amount of additional information is now available, and it is appropriate to revise the plan and incorporate this new information into the recovery program.

These two species are very similar in ecology. Lost River and shortnose suckers predominantly inhabit lake environments, but also periodically utilize stream/river, marsh, and shoreline habitats. Both species spawn during spring, over gravel bottoms in tributary streams and rivers (Buettner and Scoppettone 1990, pp. 19-20, 44-46). A smaller but significant number of Lost River sucker also spawn over gravel bottoms at shoreline springs along the margins of Upper Klamath Lake (Janney et al. 2009, pp. 8-9). Larvae spend relatively little time after hatching in rivers or streams before drifting passively to downstream lakes (Cooperman and Markle 2003, p. 1138). Once in a lake environment, larvae move into relatively shallow vegetated areas along the shoreline. This vegetation provides cover from predators, protection from currents and turbulence, and sources of food (Cooperman and Markle 2004, p. 365). Within 1 to 2 months, larvae become juveniles and begin to utilize nonvegetated and deeper off-shore habitats (Burdick et al. 2008, p. 417). Adults occupy open water habitats throughout the year, except during spawning season, when they migrate to spawning areas. Individuals typically become reproductively mature at 5 to 7 years old, and can live for several decades.

The rationales for listing Lost River sucker were similar to those for shortnose sucker, with many of the same threats continuing through the present day, such that both species remain in danger of extinction. Habitat loss, resulting in restricted access to spawning and rearing habitat, severely impaired water quality, and increased rates of mortality resulting from entrainment in water management structures were cited as causes for declines in populations prior to listing (53 FR 27130; July 18, 1988). Although the rate of habitat loss has slowed in recent years and a significant amount of habitat restoration and screening of water diversion structures has occurred, large amounts of historical sucker habitat remain unavailable or significantly altered. In Upper Klamath Lake, extremely poor water quality, which occurs periodically throughout summer, negatively impacts adult survival rates, and although the specific causes are currently unknown, juvenile survival is also low in these populations. The last time a substantial group of juveniles joined the adult populations in Upper Klamath Lake was during the late 1990s (Janney et al. 2008, pp. 1820-1823). For both species, the result of these combined factors was abundances of spawning individuals in 2007 in Upper Klamath Lake that were roughly 40 to 70 percent of their 2001 levels. Lastly, entrainment of larvae and small juveniles through diversion structures continues to drain significant numbers of individuals from Upper Klamath Lake into extremely poor habitats, from which return is unlikely. Clear Lake Reservoir has a single spawning tributary, with poor connectivity when reservoir levels are low and limited passage for spawning migrants when flows are low, making these populations very vulnerable to drought. Within Gerber Reservoir, the shortnose sucker population is apparently affected by hybridization with Klamath largescale sucker (Catostomus snyderi).

Recovery Plan Goals

The objective of a recovery plan is to provide a framework for the recovery of species so that protection under the Act is no longer necessary. A recovery plan includes scientific information about the species and provides criteria and actions necessary to enable us to be able to downlist or delist the species. Recovery plans help guide our recovery efforts by describing actions we consider necessary for each species' conservation and by estimating time and costs for implementing needed recovery measures.

To achieve its goals, this draft revised recovery plan identifies the following objectives:

1. Restore or enhance spawning and nursery habitat in Upper Klamath Lake and Clear Lake Reservoir systems;

2. Reduce negative impacts of poor water quality;

3. Clarify and reduce the effects of non-native organisms on all life stages;

4. Reduce the loss of individuals to entrainment;

5. Establish a redundancy and resiliency enhancement program;

6. Maintain or increase larval production;

7. Increase juvenile survival and recruitment to spawning populations; and

8. Protect existing and increase the number of recurring, successful spawning populations.

We believe that by achieving these objectives we will be able to promote healthy, stable population demographics.

As these species meet reclassification and recovery criteria, we review each species' status and consider each species for reclassification on or removal from the Federal List of Endangered and Threatened Wildlife and Plants.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities, so that they can be taken into account during the course of implementing recovery actions. Responses to individual commenters will not be provided, but we will provide a summary of how we addressed substantive comments in an appendix to the approved recovery plan.

We invite written comments on the draft revised recovery plan. We specifically seek comments on the following:

• Do you have comments or concerns regarding the proposed recovery criteria?

• Do actions and priorities in the plan's Implementation Schedule reflect a biologically sound conservation approach for Lost River sucker and shortnose sucker recovery?

• Are the proposed monitoring and management actions appropriate and sufficient?

• Are there important recovery actions which have not been included in the plan?

Before we approve the plan, we will consider all comments we receive by the date specified in DATES. Methods of submitting comments are in ADDRESSES.

Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Dated: October 11, 2011.
Alexandra Pitts,
Acting Regional Director, Pacific Southwest Region.

[FR Doc. 2011-26798 Filed 10-17-11; 8:45 am]

BILLING CODE 4310-55-P